NATIONAL AERONAUTICS AND SPACE ADMINISTRATION

[Notice: 24-068]

NASA Heliophysics Advisory Committee

AGENCY: National Aeronautics and Space Administration.

ACTION: Notice of meeting.

SUMMARY: In accordance with the Federal Advisory Committee Act, the National Aeronautics and Space Administration (NASA) announces a meeting of the Heliophysics Advisory Committee.

DATES: Tuesday, October 22, 2024, 10 a.m.-5 p.m., Wednesday, October 23, 2024, 9:30 a.m.-5 p.m., and Thursday, October 24, 2024, 9:30 a.m.-12 p.m. All times are eastern time.

ADDRESS: Public attendance will be virtual only. See dial-in and Webinar information below under SUPPLEMENTARY INFORMATION.

FOR FURTHER INFORMATION CONTACT: Dr. Janet Kozyra, Designated Federal Officer, Heliophysics Advisory Committee, NASA Headquarters, Washington, DC 20546, via email at janet.kozyra@nasa.gov or 202-875-3278.

SUPPLEMENTARY INFORMATION: As noted above, this meeting will be open to the public via Webinar and telephonically. Webinar connectivity information is provided below. For audio, when you join the Webinar event, you may use your computer or provide your phone number to receive a call back, otherwise, call the U.S. toll conference number listed.

On Tuesday October 22, 2024, the event address for attendees is: https://nasaevents.webex.com/nasaevents/j.php?MTID=mb4ce4524647d08965b8cc38eca1fce45.

The webinar number is 2831 489 9839 and the webinar password is KwprFaXc934. If needed, the U.S. toll conference number is 1-415-527-5035 or 1-312-500-3163 and access code is 283 148 99839 and password is 59773292.

On Wednesday October 23, 2024, the event address for attendees is: https://nasaevents.webex.com/nasaevents/j.php?MTID=mc9115ec5198e03fc6757901104f5cfb7.

The webinar number is 2818 795 0282 and the webinar password is (iAkGQAvp762). If needed, the U.S. toll conference number is 1-415-527-5035 or 1-312-500-3163 and access code is 281 879 50282 and password is 42547287.

On Thursday October 24, 2024, the event address for attendees is: https://nasaevents.webex.com/nasaevents/j.php?MTID=mb8424f487346a8ad5f3eb0b5a9958abe.

The webinar number is (2819 521 4155) and the webinar password is (JGrAjPiW892). If needed, the U.S. toll conference number is (1-415-527-5035) or (1-312-500-3163) and access code is (281 952 14155) and password is (54725749).

The agenda for the meeting includes the following topics:

• Heliophysics Program Annual Performance Review According to the Government Performance and Results Act Modernization Act

• Heliophysics Division Update

It is imperative that these meeting be held on these days to accommodate the scheduling priorities of the key participants.

For more information, please visit the committee website link at https://science.nasa.gov/researchers/nac/science-advisory-committees/hpac#meetingdocs.

Jamie M. Krauk,
Advisory Committee Management Officer, National Aeronautics and Space Administration.

[FR Doc. 2024-22176 Filed 9-26-24; 8:45 am]

BILLING CODE 7510-13-P